FEDERAL COMMUNICATIONS COMMISSION

[Report No. AUC-01-31-A (Auction No. 31); DA 01-266]

Auction of Licenses for the 747-762 and 777-792 MHz Bands Postponed Until September 12, 2001

AGENCY: Federal Communications Commission.

ACTION: Notice.

SUMMARY: This document announces the postponement of the upcoming auction of licenses in the 747-762 and 777-792 MHz band (Auction No. 31), originally scheduled to begin on March 6, 2001, the new date is September 12, 2001. The Wireless Telecommunications Bureau (Bureau) believes that a brief delay is warranted to provide additional time for bidder preparation and planning.

DATES: Auction No. 31 is rescheduled to begin on September 12, 2001.

FOR FURTHER INFORMATION CONTACT: Howard Davenport or Bill Huber, Auctions Legal Branch at (202) 418-0660, or Kathy Garland, Auctions Operations at (717) 338-2801.

SUPPLEMENTARY INFORMATION: This is a summary of a Public Notice released January 31, 2001 (Auction No. 31 Postponement Public Notice). The complete text of the Auction No. 31 Postponement Public Notice, including attachments, is available for inspection and copying during normal business hours in the FCC Reference Center (Room CY-A257), 445 12th Street, SW., Washington, DC. It may also be purchased form the Commission's copy contractor, International Transcription Services, Inc. (ITS, Inc.), 445 12th Street, SW., Room CY-B400, Washington, DC 20554, (202) 314-3070. The Auction No. 31 Postponement Public Notice is also available on the Internet at the Commission's web site: http://www.fcc.gov/wtb/documents.html.

1. On January 18, 2001, Verizon Wireless (“Verizon”) submitted a letter to the Bureau requesting a postponement of Auction No. 31. Later that day, the Bureau released a Public Notice seeking comment on Verizon's request. The Bureau received 13 timely-filed comments in response to that Public Notice. A majority of commenters support a postponement of this auction, while others oppose any delay. Under the current circumstances, the Bureau believes that a brief delay is warranted to provide additional time for bidder preparation and planning and for reasons of auction administration, consistent with the Commission's obligations under section 309(j)(3)(E) of the Communications Act of 1934, as amended.

2. The short-form (FCC Form 175) application filing window for Auction No. 31 is now closed. Any applications that were in the system are deemed ineffective and will be purged from the system. The new schedule is as follows:

• Filing Deadline for FCC Form 175: August 17, 2001; 6:00 PM ET.

• Auction Start Date: September 12, 2001.

The Bureau will announce other pre-auction deadlines in a subsequent public notice.

Federal Communications Commission.
Margaret Wiener,
Deputy Chief, Auctions & Industry Analysis Division, Wireless Telecommunications Bureau.

[FR Doc. 01-3040 Filed 2-2-01; 11:17 am]

BILLING CODE 6712-01-P